DEPARTMENT OF TRANSPORTATION

Federal Aviation Administration

14 CFR Part 39

[Docket No. 2004-NE-19-AD; Amendment 39-13917; AD 2004-26-05]

RIN 2120-AA64

Airworthiness Directives; Rolls-Royce plc RB211-524 Series Turbofan Engines

AGENCY: Federal Aviation Administration (FAA), DOT.

ACTION: Final rule.

SUMMARY: The FAA is superseding an existing airworthiness directive (AD) for certain Rolls-Royce plc (RR) RB211-524 series turbofan engines. That AD currently requires initial and repetitive borescope insepctions of the head section and meterpanel assembly of the combustion liner, and replacement, if necessary, with serviceable parts. In addition, that AD allows an optional installation of a front combustion liner with a strengthened head section as a terminating action to the inspection requirements. This AD requires initial and repetitive borescope inspections of the head section and meterpanel assembly of the combustion liner, and replacement if necessary with serviceable parts. This AD also requires reduction of the inspection intervals of certain RB211-524 engine models that have not been repaired to RR Field Repair Scheme FRS5367/B, and a mandatory terminating action to be completed by a certain date. This AD results from five events that are directly attributed to combustor head breakup and meterpanel failure which were found at overhaul inspection. At least one of these events resulted in a combustion case burn-through. We are issuing this AD to prevent engine combustion liner deterioration, which can result in combustion liner breakup, case burn-through, and engine fire.

DATES: This AD becomes effective February 9, 2005. The incorporation by reference of RR ASB RB.211-72-AB482, Revision 9, dated July 28, 2003; Rolls-Royce Service Bulletins (SB's) RB.211-72-9764, Revision 3, dated January 16, 1998, RB.211-72-9670, Original Issue, dated August 27, 1993; and RB.211-72-9764 Supplement 1, dated January 16, 1998; are approved by the Director of the Federal Register as of February 9, 2005.

ADDRESSES: You can get the service information identified in this AD from Rolls-Royce plc, P.O. Box 31, Derby, DE24-8BJ, United Kingdom; telephone: 011-44-1332-242424; fax 011-44-1332-249936.

You may examine the AD docket at the FAA, New England Region, Office of the Regional Counsel, 12 New England Executive Park, Burlington, MA. You may examine the service information, at the FAA, New England Region, Office of the Regional Counsel, 12 New England Executive Park, Burlington, MA; or at the National Archives and Records Administration (NARA). For information on the availability of this material at NARA, call 202-741-6030, or to to http://www.archives.gov/federal_register/code_of_federal_regulations/ibr_locations.html.

FOR FURTHER INFORMATION CONTACT: Ian Dargin, Aerospace Engineer, Engine Certification Office, FAA, Engine and Propeller Directorate, 12 New England Executive Park, Burlington, MA 01803-5299; telephone (781) 238-7178; fax (781) 238-7199.

SUPPLEMENTARY INFORMATION: The FAA proposed to amend 14 CFR part 39 with a proposed AD. The proposed AD applies to RR RB211-524 series turbofan engines. We published the proposed AD in the Federal Register on May 18, 2004 (69 FR 28094). That action proposed to require initial and repetitive borescope inspections of the head section and meterpanel assembly of the combustion liner and replacement if necessary, with serviceable parts. That action also proposed a reduction of the inspection intervals of certain RB211-524 engine models that have not been repaired to RR Field Repair Scheme FRS53667/B, and a mandatory terminating action to be completed by a certain date.

Examining the AD Docket

You may examine the AD Docket (including any comments and service information), by appointment, between 8 a.m. and 4:30 p.m., Monday through Friday, except Federal holidays. See ADDRESSES for the location.

Comments

We provided the public the opportunity to participate in the development of this AD. We received no comments on the proposal or on the determination of the cost to the public. However, we corrected RR Service Bulletin (SB) No. RB.211-71-9670 in Compliance paragraph (q) of this AD to RR SB No. RB.211.-72-9670.

Conclusion

We have carefully reviewed the available data and determined that air safety and the public interest require adopting the AD with the change described previously. We have determined that the change will neither increase the economic burden on any operator nor increase the scope of the AD.

Costs of Compliance

There are about 537 RB211-524 series turbofan engines of the affected design in the worldwide fleet. We estimate that 18 engines installed on airplanes of U.S. registry will be affected by this AD. We also estimate that it will take approximately 2.0 work hours per engine to perform the actions, and that the average labor rate is $65 per work hour. Required parts will cost about $228,389 per engine. Based on these figures, we estimate that total cost of the AD to U.S. operators to be $4,113,342.

Authority for this Rulemaking

Title 49 of the United States Code specifies the FAA's authority to issue rules on aviation safety. Subtitle I, section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2004-NE-19-AD” in your request.

List of Subjects in 14 CFR Part 39

Air transportation, Aircraft, Aviation safety, Incorporation by reference, Safety.

Adoption of the Amendment

Accordingly, under the authority delegated to me by the Administrator, the Federal Aviation Administration amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-9978 (62 FR 16475, April 7, 1997) and by adding a new airworthiness directive, Amendment 39-13917, to read as follows:

2004-26-05 Rolls-Royce plc: Amendment 39-13917. Docket No. 2004-NE-19-AD. Supersedes AD 97-07-04, Amendment 39-9978.

Effective Date

(a) This AD becomes effective February 9, 2005.

Affected ADs

(b) This AD supersedes AD 97-07-04, Amendment 39-9978.

Applicability

(c) This AD applies to Rolls-Royce plc (RR) engine models RB211-524B-02, -524B2, -524B3, -524B4, -524C2, and -524D4 series engines incorporating RR Service Bulletin (SB) No. RB.211-72-7221 or RR SB No. RB.211-72-7998 with front combustion liner assembly, part number (P/N) UL16885, UL29916, UL27107, UL28972, or UL28974 installed but not incorporating RR SB No. RB.211-72-9670 or RR SB No. RB.211-72-9764, and engine models RB211-524G and -524H series engines with front combustion liner assembly P/N UL27659, UL23992, or UL22988 but not incorporating RR SB No. RB.211-72-9764. These engines are installed on, but not limited to, Boeing 747 and Lockheed L1011 series airplanes.

Unsafe Condition

(d) This AD results from five events that are directly attributed to combustor head breakup and meterpanel failure which were found at overhaul inspection. At least one of these events resulted in a combustion case burn-through. The actions specified in this AD are intended to prevent engine combustion liner deterioration, which can result in combustion liner breakup, case burn-through, and engine fire.

Compliance

(e) You are responsible for having the actions required by this AD performed within the compliance times specified unless the actions have already been done. Engine inspections previously made to RR Service Bulletin No. RB.211-72-B482, Revision 8, can be credited for counting cycles since last inspection.

Inspections of Combustion Liner Head Sections—Not Previously Repaired

(f) Borescope-inspect combustion liner head sections that have not been previously repaired. Use paragraphs 3.A.(1) through 3.A.(5) of the Accomplishment Instructions of RR Alert Service Bulletin (ASB) No. RB.211-72-AB482, Revision 9, dated July 28, 2003, and the compliance thresholds in Table 1 of this AD.

Table 1.—Combustor Head Section—Not Previously Repaired
Engine series | Initial inspection (cycles since-new (CSN)) | Repetitive inspection (cycles-since-last-inspection (CSLI)) | Parts exceeding initial inspection cycles (cycles-in-service (CIS))
(1) RB211-524C2, -524D4, -524G, and -524H | Within 1,400 to 1,600 CSN | Within 200 CSLI | Within 100 CIS after the effective date of this AD.
(2) RB211-524B-02, -524B, -524B3, and -524B4 | Within 3,000 to 3,200 CSN | Within 200 CSLI | Within 200 CIS after the effective date of this AD.

Inspections of Combustion Head Sections—Previously Repaired Using RR Field Repair Scheme FRS5367/B

(g) Borescope-inspect combustion liner head sections previously repaired using RR Field Repair Scheme FRS5367/B. Use paragraphs 3.A.(1) through 3.A.(5) of the Accomplishment Instructions of RR ASB No. RB.211-72-AB482, Revision 9, dated July 28, 2003, and the compliance thresholds in Table 2 of this AD.

Table 2.—Combustor Head Section—Previously Repaired Using RR Field Repair Scheme FRS5367/B
Engine series | Initial inspection (cycles-since-last-repair (CSLR)) | Repetitive inspection (cycles-since-last-inspection (CSLI)) | Parts exceeding initial inspection cycles (cycles-in-service (CIS))
(1) RB211-524C2, -524D4, -524G, and -524H | Within 1,800 to 2,200 CSLR | Within 400 CSLI | Within 200 CIS after the effective date of this AD.
(2) RB211-524B-02, -524B2, -524B3, and -524B4 | Within 3,000 to 3,200 CSLR | Within 400 CSLI | Within 200 CIS after the effective date of this AD.

Inspections of Combustion Head Sections That Have Been Repaired But Did Not Use RR Field Repair Scheme FRS5367/B

(h) Borescope-inspect combustion liner sections that have been repaired using a method other than RR Field Repair Scheme FRS5367/B. Use paragraphs 3.A.(1) through 3.A.(5) of the Accomplishment Instructions of RR ASB No. RB.211-72-AB482, Revision 9, dated July 28, 2003, and the compliance thresholds in Table 3 of this AD.

Table 3.—Combustor Head Section—Repaired, But Did Not Use RR Field Repair Scheme FRS5367/B
Engine series | Initial inspection cycles (cycles-since-last-repair (CSLR)) | Repetitive inspection cycles (cycles-since-last-inspection (CSLI)) | Parts exceeding initial inspection cycles (cycles-in-service (CIS))
(1) RB211-524C2, -524D4, -524G, and -524H | Within 500 to 700 CSLR | Within 200 CSLI | Within 100 CIS after the effective date of this AD.
(2) RB211-524B-02, -524B2, -524B3, and -524B4 | Within 2,000 to 2,200 CSLR | Within 200 CSLI | Within 200 CIS after the effective date of this AD.

Note 1: For an installed front combustion liner that is subject to RR ASB No. RB.211-72-AB482, Revision 9, dated July 28, 2003: If the operator can confirm with the relevant overhaul base or repair vendor that the nicrobraze repair RR Field Repair Scheme FRS5367 has been applied to all 18 struts, then this is equivalent to compliance with RR Field Repair Scheme FRS5367/B.

Note 2: Head sections repaired by replacement of all 18 struts using RR Field Repair Scheme FRS6548 are considered as equivalent to fitting a new head section for inspection purposes.

Inspections of Meterpanel Assemblies—Not Repaired

(i) Borescope-inspect meterpanel assemblies, incorporating Service Bulletin (SB) No. RB.211-72-7998, that have not been previously repaired. Using Paragraphs 3.B.(1) through 3.B.(7) of the Accomplishment Instructions of RR ASB No. RB.211-72-AB482, Revisions 9, dated July 28, 2003, and the compliance thresholds in Table 4 of this AD.

Table 4.—Meterpanel Assembly—Not Repaired
Engine series | Initial inspection cycles-since-new (CSN) | Repetitive inspection cycles (cycles-since-last-inspection (CSLI)) | Parts exceeding initial inspection cycles (cycles-in-service (CIS))
(1) RB211-524D4, -524G, and -524H | Within 1,000 to 1,200 CSN | Within 400 CSLI | Within 50 CIS after the effective date of this AD.
(2) RB211-524D4, -524G, and -524H that have not used RB211-524H ratings at any time | Within 1,800 to 2,000 CSN | Within 400 CSLI | Within 50 CIS after the effective date of this AD.

Inspections of Meterpanel Assemblies—Repaired

(J) Borescope-inspect meterpanel assemblies, incorporating Service Bulletin (SB) No. RB.211-72-7998, that have been previously repaired. Use paragraphs 3.B.(1) through 3.B.(7) of the Accomplishment Instructions of RR ASB No. RB.211-72-AB482, Revision 9, dated July 28, 2003, and the compliance thresholds in Table 5 of this AD.

Table 5.—Meterpanel Assembly—Repaired
Engine series | Initial inspection cycles (cycles-since-last-repair (CSLR)) | Repetitive inspection cycles (cycles-since-last-inspection (CSLI)) | Parts exceeding initial inspection cycles (cycles-in-service (CIS))
(1) RB211-524D4, -524G, and -524H | Within 500 to 700 CSLR | Within 400 CSLI | Within 50 CIS after the effective date of this AD.

Note 3: There is no requirement to inspect meter panels for combustors to a pre-RR SB No. RB.211-72-7998 standard.

Reject Parts

(k) Replace parts that exceed the acceptance criteria. Information about the acceptance criteria can be found in the Aircraft Maintenance Manual, 72-00-00, Inspection/Check.

Mandatory Terminating Action

(l) Replace any front combustion liner assembly that has a P/N listed in paragraph (c) of this AD at the next shop visit or within 10,000 CSN but no later than December 31, 2012.

(m) Replacement of the front combustion liner assembly with a front combustion liner assembly that incorporates the modifications in RR SB No. RB.211-72-9670 or RR SB No. RB.211-72-9764 in the RB211-524B02, -524B2, -524B3, -524B4, -524C2 and -524D4 engines constitutes terminating action to the repetitive inspections in paragraphs (f), (g), (h), (i), and (j), of this AD.

(n) Replacement of the front combustion liner assembly with a front combustion liner assembly that incorporates the modifications in RR SB No. RB.211-72-9764 in the RB211-524G and -524H engines constitutes terminating action to the repetitive inspections in paragraphs (f), (g), (h), (i), and (j) of this AD.

Definition of Shop Visit

(o) For the purpose of this AD, a shop visit is defined as any time that the 04 module is removed for refurbishment or overhaul.

Alternative Methods of Compliance

(p) The Manager, Engine Certification Office, has the authority to approve alternative methods of compliance for this AD if requested using the procedures found in 14 CFR 39.19.

Material Incorporated by Reference

(q) You must use the Rolls-Royce plc (RR) Alert Service Bulletin (ASB) and Service Bulletins (SB's) listed in Table 6 of this AD to do the inspections and replacements required by this AD. The Director of the Federal Register approved the incorporation by reference of RR ASB No. RB.211-72-AB482, Revision 9, dated July 28, 2003; SB's No. RB.211-72-9764, Revision 3, dated January 16, 1998, No. RB.211-72-9670, Original Issue, dated August 27, 1993; and SB No. RB.211-72-9764 Supplement, Revision 1, dated January 16, 1998; in accordance with 5 U.S.C. 552(a) and 1 CFR part 51. You can get copies at the FAA, New England Region, Office of the Regional Counsel, 12 New England Executive Park, Burlington, MA; or at the National Archives and Records Administration (NARA). For information on the availability of this material at NARA, call 202-741-6030; or go to: http://www.archives.gov/federal_register/code_of_federal_regulations/ibr_locations.html. Table 6 follows:

Table 6.—Incorporation by Reference
Service bulletin | Page number(s) shown on the page | Revision level shown on the page | Date shown on the page
RB.211-72-AB482, | All | 9 | July 28, 2003.
Total Pages: 12
RB.211-72-9670, | All | Original | Aug. 27, 1993.
Total Pages: 49
RB.211-72-9764 | 1 2 3, 4 5 | 3 Original 3 1 | Jan. 16, 1998. Aug. 20, 1993. Jan. 16, 1998. Aug. 25, 1995.
| 6 7-10 11 12-30 | 3 Original 3 Original | Jan. 16, 1998. Aug. 20, 1993. Jan. 16, 1998. Aug. 20, 1993.
Total Pages: 30
RB.211-72-9764 Supplement | 1 | 1 | Jan. 16, 1998.
Total Pages: 1

Related Information

(r) Civil Aviation Authority airworthiness directive AD G-2003-0011, dated October 1, 2003, (previously 005-07-95, dated November 15, 2001), also addresses the subject of this AD. Aircraft Maintenance Manual 72-00-00 also addresses the subject of this AD.

Issued in Burlington, Massachusetts, on December 20, 2004.
Francis A. Favara,
Acting Manager, Engine and Propeller Directorate, Aircraft Certification Service.

[FR Doc. 05-85 Filed 1-4-05; 8:45 am]

BILLING CODE 4910-13-P